FARM CREDIT SYSTEM INSURANCE CORPORATION

Farm Credit System Insurance Corporation Board; Regular Meeting

AGENCY: Farm Credit System Insurance Corporation.

SUMMARY: Notice is hereby given of the regular meeting of the Farm Credit System Insurance Corporation Board (Board).

DATE AND TIME: The meeting of the Board will be held at the offices of the Farm Credit Administration in McLean, Virginia, on September 12, 2013, from 1:00 p.m. until such time as the Board concludes its business.

FOR FURTHER INFORMATION CONTACT: Dale L. Aultman, Secretary to the Farm Credit System Insurance Corporation Board, (703) 883-4009, TTY (703) 883-4056.

ADDRESSES: Farm Credit System Insurance Corporation, 1501 Farm Credit Drive, McLean, Virginia 22102.

SUPPLEMENTARY INFORMATION: Parts of this meeting of the Board will be open to the public (limited space available) and parts will be closed to the public. In order to increase the accessibility to Board meetings, persons requiring assistance should make arrangements in advance. The matters to be considered at the meeting are:

Closed Session

• Confidential Report on Farm Credit System Performance

Open Session

A. Approval of Minutes

• June 13, 2013

B. Business Reports

• FCSIC Quarterly Financial Reports

• Report on Insured and Other Obligations

• Quarterly Report on Annual Performance Plan

C. New Business

• Annual Performance Plan FY 2014-2015

• Proposed 2014 and 2015 Budgets

• Insurance Fund Progress Review and Setting of Premium Range Guidance for 2014

Dated: September 4, 2013.
Dale L. Aultman,
Secretary, Farm Credit System Insurance Corporation Board.

[FR Doc. 2013-21855 Filed 9-6-13; 8:45 am]

BILLING CODE 6710-01-P